FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 14, 2009.

A. Federal Reserve Bank of St. Louis (Glenda Wilson, Community Affairs Officer) 411 Locust Street, St. Louis, Missouri 63166-2034:

1. Larry E. Kircher, Trustee of the Larry E. Kircher Revocable Trust, 4/12/07, and Molly H. Kircher, Trustee of the Molly H. Kircher Revocable Trust, 4/12/07, all of Bald Knob, Arkansas, acting in concert, to retain control of Citizens State Bankshares of Bald Knob, Inc., Bald Knob, Arkansas, and thereby retain shares of Citizens State Bank, Bald Knob, Arkansas.

B. Federal Reserve Bank of Minneapolis (Jacqueline G. King, Community Affairs Officer) 90 Hennepin Avenue, Minneapolis, Minnesota 55480-0291:

1. Marcia J. Edsall Trust, Bozeman, Montana, Marcia J. Edsall and Wayne A. Edsall as trustees, the Wayne Edsall Trust No. 2, Bozeman, Montana, Wayne A. Edsall as trustee, as well as Susan Joy Edsall, Ennis, Montana, Steven L. Edsall, Bellevue, Idaho, and Sharon J. Cohen, Spokane, Washington, as a group acting in concert, to retain shares of Inter-Mountain Bancorp, Inc., Bozeman, Montana, and thereby indirectly retain First Security Bank, Bozeman, Montana.

2. Cornelius A. Dogterom Marital Trust, Bozeman, Montana, Marjorie T. Dogterom as trustee and individually, Bozeman, Montana, the Dana Dogterom Living Trust, Manhatten, Montana, Dana M. Dogterom as trustee, the Toni Dogterom Living Trust, Evanston, Illinois, Toni L. Dogterom as trustee, the Daphne Gillam Revocable Trust, Bozeman, Montana, Daphne Gillam as trustee, as well as Ashley Claire Gillam, Bozeman, Montana, and Dana M. Dogterom as Custodian for Alexa Dogterom, Evanston, Illinois, as a group acting in concert to shares of Inter-Mountain Bancorp, Inc., Bozeman, Montana, and thereby indirectly retain First Security Bank, Bozeman, Montana.

3. Thomas J. Kamp, Manhatten, Montana, Robert K. Kamp, Manhatten, Montana, Robert and Sharon T. Kamp, Manhatten, Montana, John T. and Joyce B. Kamp, Manhatten, Montana, Alma J. Kamp, San Anselmo, California, Lois F. Kamp, Great Falls, Montana, Michael S. Kamp, Manhatten, Montana, Thomas J. Kamp, Belgrade, Montana, and Theodore P. Kamp, Raton, New Mexico, as a group acting in concert to retain shares of Inter-Mountain Bancorp, Inc., Bozeman, Montana, and thereby indirectly retain First Security Bank, Bozeman, Montana.

Board of Governors of the Federal Reserve System, August 25, 2009.
Robert deV. Frierson,
Deputy Secretary of the Board.

[FR Doc. E9-20814 Filed 8-27-09; 8:45 am]

BILLING CODE 6210-01-S